ENVIRONMENTAL PROTECTION AGENCY

40 CFR Part 52

[NC-087-9939; FRL-6881-1]

Approval and Promulgation of State Plans—North Carolina: Approval of Revisions to the North Carolina State Implementation Plan; Technical Correction

AGENCY: Environmental Protection Agency (EPA).

ACTION: Direct final rule; technical correction.

SUMMARY: The United States Environmental Protection Agency (EPA) published in the Federal Register on November 10, 1999, a document approving revisions to clarify rules for the control of particulate emissions, add requirements for expedited permit processing, revise the Division name and address, and amend case-by-case MACT language. The State of North Carolina, through the North Carolina Department of Environment and Natural Resources (NCDENR) submitted these miscellaneous revisions to the North Carolina State Implementation Plan (SIP). The revisions are being clarified and corrected to add and revise entries that were inadvertently excluded in the Federal Register document.

EFFECTIVE DATE: This correction is effective on October 10, 2000.

FOR FURTHER INFORMATION CONTACT: Gregory Crawford at (404) 562-9046, crawford.gregory@epa.gov.

SUPPLEMENTARY INFORMATION: The November 10, 1999 (64 FR 61213-61217) document included amendatory language in the third full paragraph of the third column on page 61215 that reads “Section 52.1770 (c) is amended by revising the entries for Sections 2D Air Pollution Control Requirements and 2Q Air Quality Permit Requirements.” Entries .0105, .0540, .0312, .0313 and .0607 cannot be revised, but must be added to the table under Subchapters 2D Air Pollution Control Requirements and 2Q Air Quality Permit Requirements. Entries .0104, .0515, .0938, .0108, .0313, and .0607 were not displayed in the table and are being added under the headings Subchapters 2D Air Pollution Control Requirements and 2Q Air Quality Permit Requirements. This document corrects these deficiencies.

Section 553 of the Administrative Procedure Act, 5 U.S.C. 553(b)(B), provides that, when an agency for good cause finds that notice and public procedures are impracticable, unnecessary, or contrary to the public interest, the agency may issue a rule without providing notice and an opportunity for public comment. We have determined that there is such good cause for making today's rule final without prior proposal and opportunity for comment because we are merely correcting an incorrect citation in a previous action. Thus, notice and public procedure are unnecessary.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule merely corrects an incorrect citation in a previous action, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely corrects a citation in a state rule implementing a Federal standard, and does not alter the relationship or the distribution of power and responsibilities established in the Clean Air Act (CAA). This rule also is not subject to Executive Order 13045 (62 FR 19885, April 23, 1997), because it is not economically significant.

This technical correction action does not involve technical standards; thus, the requirements of section 12(d) of the National Technology Transfer and Advancement Act of 1995 (15 U.S.C. 272 note) do not apply. As required by section 3 of Executive Order 12988 (61 FR 4729, February 7, 1996), in issuing this rule, we have taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. As stated previously, we made such a good cause finding, including the reasons therefore and established an effective date of October 10, 2000. We will submit a report containing this rule and other required information to the United States Senate, the United States House of Representatives, and the Comptroller General of the United States prior to publication of the rule in the Federal Register. This correction to the North Carolina SIP table is not a “major rule” as defined by 5 U.S.C. 804(2).

Dated: August 17, 2000.
A. Stanley Meiburg,
Acting Regional Administrator, Region 4.

Chapter I, title 40, Code of Federal Regulations, is amended as follows:

PART 52—[CORRECTED]

1. The authority citation for part 52 continues to read as follows:

Authority: 42 U.S.C. 7401 et seq.

Subpart II—North Carolina [Corrected]

2. Section 52.1770, the table in paragraph (c) is amended by:

A. Adding entries .0105, .0540 under the heading Subchapter 2D Air Pollution Control Requirements and entries .0312, .0313, .0607 under the heading Subchapter 2Q Air Quality Permit Requirements.

B. Revising entries .0101, .0104, .0202, .0302, .0506, .0507, .0508, .0509, .0510, .0511, .0513, .0514, .0515, .0521, .0531, .0914, .0927, .0938, .0953 (two entries), .1902, .1903 under the heading Subchapter 2D Air Pollution Control Requirements and .0101, .0103, .0108, .0207, .0306, .0307, .0805, .0806, .0807 under the heading Subchapter 2Q Air Quality Permit Requirements.

The additions and revisions read as follows:

§ 52.1770 Identification of plan.

* * * * *

(c) EPA approved regulations.

EPA Approved North Carolina Regulations
State citation | Title/subject | State effective date | EPA approval date | Comments
Subchapter 2D—Air Pollution Control Requirements
* * * * * * *
Section .0101 | Definitions | 1/5
11/10/99
* * * * * * *
Section .0104 | Incorporation by Reference | 1/15/98 | 11/10/99
Section .0105 | Mailing List | 1/15/98 | 11/10/99
* * * * * * *
Section .0202 | Registration of Air Pollution Sources | 1/15/98 | 11/10/99
* * * * * * *
Section .0302 | Episode Criteria | 1/15/98 | 11/10/99
* * * * * * *
Section .0506 | Particulates from Hot Mix Asphalt Plants | 3/20/98 | 11/10/99
Section .0507 | Particulates from Chemical Fertilizer | 3/20/98 | 11/10/99
Section .0508 | Particulates from Pulp and Paper Mills | 3/20/98 | 11/10/99
Section .0509 | Particulates from Mica or Feldspar Processing | 3/20/98 | 11/10/99
Section .0511 | Particulates from Lightweight Aggregate | 3/20/98 | 11/10/99
* * * * * * *
Section .0513 | Particulates from Portland Cement Plants | 3/20/98 | 11/10/99
Section .0514 | Particulates from Ferrous Jobbing Foundries | 3/20/98 | 11/10/99
Section .0515 | Particulates from Miscellaneous Industrial Processes | 3/20/98 | 11/10/99
* * * * * * *
Section .0521 | Control of visible Emissions | 3/20/98 | 11/10/99
* * * * * * *
Section .0531 | Sources in Nonattainment Areas | 1/15/98 | 11/10/99
* * * * * * *
Section .0540 | Particulates from Fugitive Non-Process Dust Emission Sources | 3/20/98 | 11/10/99
* * * * * * *
Section .0914 | Determination of VOC Emission Control System Efficiency | 3/20/98 | 11/10/99
* * * * * * *
Section .0927 | Bulk Gasoline Terminals | 3/20/98 | 11/10/99
* * * * * * *
Section .0938 | Perchloroethylene Dry Cleaning System | 3/20/98 | 11/10/99
* * * * * * *
Section .0953 | Vapor Return Piping for Stage II Vapor Recovery | 1/15/98 | 11/10/99
Section .0953 | Vapor Return Piping for Stage II Vapor Recovery | 3/20/98 | 11/10/99
* * * * * * *
Section .1902 | Definitions | 1/15/98 | 11/10/99
Section .1903 | Permissible Open Burning Without a Permit | Annual Emissions Reporting | 1/15/98 | 11/10/99
Subchapter 2Q— AirQuality Permits Requirements
Section .0101 | Required Air Quality Permits | 3/20/98 | 11/10/99
* * * * * * *
Section .0103 | Definitions | 1/15/98 | 11/10/99
* * * * * * *
Section .0108 | Delegation of Authority | 3/15/98 | 11/10/99
Section .0207 | Annual Emissions Reporting | 1/15/98 | 11/10/99
* * * * * * *
Secton .0306 | Permits Requiring Public Participation | 3/20/98 | 11/10/99
Section .0307 | Public Participation Procedures | 1/15/98 | 11/10/99
Subchapter 2Q—Air Quality Permits Requirements
* * * * * * *
Section .0312 | Application Processing Schedule | 3/20/98 | 11/10/99
Section .0313 | Expedited Application Processing Schedule | 4/17/97 | 11/10/99
* * * * * * *
Section .0607 | Application Processing Schedule | 4/17/97 | 11/10/99
* * * * * * *
Section .0805 | Grain Elevators | 1/15/98 | 11/10/99
Section .0806 | Cotton Gins | 1/15/98 | 11/10/99
Section .0807 | Emergency Generators | 1/15/98 | 11/10/99

* * * * *

[FR Doc. 00-25599 Filed 10-6-00; 8:45 am]

BILLING CODE 6560-50-P